ENVIRONMENTAL PROTECTION AGENCY

40 CFR Parts 51, 72, 73, 74, 77, 78, and 96

[OAR-2003-0053; FRL-7927-9]

RIN 2060-AM95

Availability of Additional Information Supporting the Proposed Rule To Include Delaware and New Jersey in the Clean Air Interstate Rule, and Reopening of Comment Period for the Proposed Rule

AGENCY: Environmental Protection Agency (EPA).

ACTION: Notice of data availability (NODA) and reopening of public comment period.

SUMMARY: We are soliciting comment on modeling information relevant to our May 12, 2005, proposal to include the States of Delaware and New Jersey within the scope of the Clean Air Interstate Rule (CAIR) for purposes of assessing significance of contribution to downwind States' attainment of the National Ambient Air Quality Standard (NAAQS) for fine particulate matter (PM2.5) (70 FR 25408). Note that we are soliciting comment only on this modeling information, and are not reopening, reconsidering, or otherwise seeking comment on any aspect of the CAIR. This information is summarized in a table listing the combined contributions of emissions of sulfur dioxide (SO2) and nitrogen oxides (NOX) from Delaware and New Jersey, to annual average PM2.5 concentrations in projected 2010 nonattainment counties in other States within the Eastern United States. This table is included in Section III below.

Detailed background information describing the rulemaking may be found in two previously published actions:

1. Rule to Reduce Interstate Transport of Fine Particulate Matter and Ozone (Clean Air Interstate Rule); Final Rule, 70 FR 25162, May 12, 2005; and,

2. Inclusion of Delaware and New Jersey in the Clean Air Interstate Rule; Proposed Rule, 70 FR 25408, May 12, 2005.

These actions and the table listed above are available in the public docket (Docket Number OAR-2003-0053) and are also available for public review on the Web site for this rulemaking at http://www.epa.gov/cleanairinterstaterule. We have chosen to include material for this rulemaking as part of the CAIR docket. However, this is a separate rulemaking, and we are not soliciting comment on any aspect of the CAIR rule. We may place additional documents in the docket, and if we do so, we will announce their availability by posting a notice on the CAIR Web site shown above.

In addition, we are reopening the comment period for the Proposed Rule to Include Delaware and New Jersey in the Clean Air Interstate Rule so it coincides with the comment period for this NODA.

DATES: Comments on both this NODA and the Proposed Rule to Include Delaware and New Jersey in the CAIR must be received on or before July 19, 2005. Please refer to SUPPLEMENTARY INFORMATION for additional information on the comment period.

ADDRESSES: Submit your comments, identified by Docket Number OAR-2003-0053, by one of the following methods:

A. Federal Rulemaking Portal: http://www.regulations.gov. Follow the on-line instructions for submitting comments.

B. Agency Web site: http://www.epa.gov/edocket. EDOCKET, EPA's electronic public docket and comment system, is EPA's preferred method for receiving comments. Follow the on-line instructions for submitting comments.

C. E-mail: A-AND-R-Docket@epa.gov.

D. Mail: Air Docket, ATTN: Docket Number OAR-2003-0053, Environmental Protection Agency, Mail Code: 6102T, 1200 Pennsylvania Ave., NW., Washington, DC 20460.

E. Hand Delivery: EPA Docket Center, 1301 Constitution Avenue, NW., Room B102, Washington, DC. Such deliveries are only accepted during the Docket's normal hours of operation, and special arrangements should be made for deliveries of boxed information.

Instructions: Direct your comments to Docket ID No. OAR-2003-0053. The EPA's policy is that all comments received will be included in the public docket without change and may be made available online at http://www.epa.gov/edocket, including any personal information provided, unless the comment includes information claimed to be Confidential Business Information (CBI) or other information whose disclosure is restricted by statute. Do not submit information that you consider to be CBI or otherwise protected through EDOCKET, regulations.gov, or e-mail. The EPA EDOCKET and the Federal regulations.gov Web sites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA is unable to read your comment and contact you for clarification due to technical difficulties, EPA may not be able to consider your comment. Electronic files should avoid the use of special characters, any form of encryption, and be free of any defects or viruses. For additional information about EPA's public docket, visit EDOCKET on-line or see the Federal Register of May 31, 2002 (67 FR 38102) entitled “EPA Dockets; EPA's New Electronic Public Docket and Comment System.” For additional instructions on submitting comments, go to Unit I of the SUPPLEMENTARY INFORMATION section of this document.

Docket: All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the EPA Docket Center, EPA West, Room B102, 1301 Constitution Avenue, NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For general questions concerning today's action, please contact Jan King, U.S. EPA, Office of Air Quality Planning and Standards, Air Quality Strategies and Standards Division, C539-02, Research Triangle Park, NC 27711, telephone (919) 541-5665, e-mail at king.jan@epa.gov. For legal questions, please contact Steven Silverman, U.S. EPA, Office of General Counsel, Mail Code 2344A, 1200 Pennsylvania Avenue, NW., Washington, DC 20460, telephone (202) 564-5523, e-mail at silverman.steven@epa.gov. For questions regarding air quality modeling analyses, please contact Norm Possiel, U.S. EPA, Office of Air Quality Planning and Standards, Emissions Modeling and Analysis Division, D243-01, Research Triangle Park, NC 27711, telephone (919) 541-5692, e-mail at possiel.norm@epa.gov. For questions regarding the emissions inventories of electric generating units (EGUs) and State budgets, please contact Misha Adamantiades, U.S. EPA, Office of Atmospheric Programs, Clean Air Markets Division, Mail Code 6204J, 1200 Pennsylvania Avenue, NW., Washington, DC 20460, telephone (202) 343-9093, e-mail at adamantiades.mikhail@epa.gov. For questions regarding the emissions inventories for non-EGU sources, please contact Marc Houyoux, U.S. EPA, Office of Air Quality Planning and Standards, Emissions Modeling and Analysis Division, Mail Code D205-01, Research Triangle Park, NC 27711, telephone (919) 541-4330, e-mail at houyoux.marc@epa.gov.

SUPPLEMENTARY INFORMATION:

I. Additional Information on Submitting Comments

A. How Can I Help EPA Ensure That My Comments Are Reviewed Quickly?

To expedite review of your comments by Agency staff, you are encouraged to send a separate copy of your comments, in addition to the copy you submit to the official docket, to Joann Allman, U.S. EPA, Office of Air Quality Planning and Standards, Air Quality Strategies and Standards Division, Mail Code C539-02, Research Triangle Park, NC 27711, telephone (919) 541-1815, e-mail allman.joann@epa.gov. If you e-mail the copy of your comments to Ms. Allman, put “comment for Docket Number OAR-2003-0053” in the subject line to alert Ms. Allman that a comment is included.

B. What Should I Consider as I Prepare My Comments for EPA?

1. Submitting CBI. Do not submit CBI information to EPA through EDOCKET, regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2. Send or deliver information identified as CBI only to the following address: Roberto Morales, U.S. EPA, Office of Air Quality Planning and Standards, Mail Code C404-02, Research Triangle Park, NC 27711, telephone (919) 541-0880, e-mail at morales.roberto@epa.gov, Attention Docket Number OAR-2003-0053.

2. Tips for Preparing Your Comments. When submitting comments, remember to:

i. Identify the rulemaking by docket number and other identifying information (subject heading, Federal Register date and page number).

ii. Explain why you agree or disagree.

iii. Describe any assumptions and provide any technical information and/or data that you used.

iv. Provide specific examples to illustrate your concerns, and suggest alternatives.

v. Make sure to submit your comments by the comment period deadline identified.

II. Rulemaking Information

The EPA has also established a website for this rulemaking at http://www.epa.gov/cleanairinterstaterule. The Web site includes the rulemaking actions and certain other related information that the public may find useful.

A. New Information Placed in the Docket

We are making available for public comment new information relating to the inclusion of Delaware and New Jersey in the CAIR for purposes of their contribution to PM2.5 air quality problems. The information is shown in the table below. This table has also been placed in the docket for this rulemaking and on the Web site listed above.

The information in the table lists the combined contribution of emissions of SO2 and NOX from Delaware and New Jersey to annual average PM2.5 concentrations in projected 2010 nonattainment counties in other States within the Eastern United States. The EPA determined the PM2.5 contributions listed in this table by applying the same “zero-out” modeling technique used in the CAIR rule to the projected 2010 Base Case SO2 and NOX emissions from New Jersey and Delaware. The rationale for evaluating the contributions from Delaware and New Jersey using the combined SO2 and NOX emissions in both States is described in the proposed rule entitled, “Inclusion of Delaware and New Jersey in the Clean Air Interstate Rule” (70 FR 25408, May 12, 2005). Details on the PM2.5 modeling platform, zero-out modeling technique, and procedures for calculating interstate contributions are provided in the report “Technical Support Document for the Final Clean Air Interstate Rule—Air Quality Modeling,” March 2005 (Docket Number OAR-2003-0053-2151). The 2010 Base Case emissions in Delaware and New Jersey and the procedures for calculating these emissions can be found in the report “Clean Air Interstate Rule Emissions Inventory Technical Support Document,” March 2005 (Docket Number OAR-2003-0053-2047).

The table below shows that the combined contribution of emissions of SO2 and NOX from Delaware and New Jersey to annual average PM2.5 concentrations in New York County, New York is projected to be 0.23 μg/m³, which is above the 0.2 μg/m³ used in the CAIR as the air quality factor for assessing significance of contribution to downwind States' nonattainment ¹ (70 FR 251723).

¹ There are three counties in Pennsylvania for which the Delaware-New Jersey contributions are projected to be close to the 0.2 μg/m³ air quality factor level. These are Lancaster and Philadelphia Counties (at 0.18 μg/m³), and Delaware County (at 0.19 μg/m³).

Contributions From SO2 and NOX Emissions in Delaware and New Jersey to Annual Average PM2.5 in Projected 2010 Nonattainment Counties in Other States Within the Eastern United States
Downwind Nonattainment Counties: State | Downwind Nonattainment Counties: County | PM2.5 Contributions from DE + NJ (μg/m ³)
Alabama | Jefferson Co | < 0.05
Alabama | Russell Co | < 0.05
District of Columbia | District of Columbia | 0.09
Georgia | Bibb Co | < 0.05
Georgia | Clarke Co | < 0.05
Georgia | Clayton Co | < 0.05
Georgia | Cobb Co | < 0.05
Georgia | DeKalb Co | < 0.05
Georgia | Floyd Co | < 0.05
Georgia | Fulton Co | < 0.05
Georgia | Walker Co | < 0.05
Illinois | Cook Co | < 0.05
Illinois | Madison Co | < 0.05
Illinois | St. Clair Co | < 0.05
Indiana | Clark Co | < 0.05
Indiana | Dubois Co | < 0.05
Indiana | Lake Co | < 0.05
Indiana | Marion Co | < 0.05
Indiana | Vanderburgh Co | < 0.05
Kentucky | Fayette Co | < 0.05
Kentucky | Jefferson Co | < 0.05
Maryland | Anne Arundel Co | 0.12
Maryland | Baltimore City | 0.13
Michigan | Wayne Co | < 0.05
New York | New York Co | 0.23
North Carolina | Catawba Co | < 0.05
North Carolina | Davidson Co | < 0.05
Ohio | Butler Co | < 0.05
Ohio | Cuyahoga Co | < 0.05
Ohio | Franklin Co | < 0.05
Ohio | Hamilton Co | < 0.05
Ohio | Jefferson Co | < 0.05
Ohio | Lawrence Co | < 0.05
Ohio | Mahoning Co | < 0.05
Ohio | Montgomery Co | < 0.05
Ohio | Scioto Co | < 0.05
Ohio | Stark Co | < 0.05
Ohio | Summit Co | < 0.05
Pennsylvania | Allegheny Co | < 0.05
Pennsylvania | Beaver Co | < 0.05
Pennsylvania | Berks Co | 0.16
Pennsylvania | Cambria Co | < 0.05
Pennsylvania | Dauphin Co | 0.11
Pennsylvania | Delaware Co | 0.19
Pennsylvania | Lancaster Co | 0.18
Pennsylvania | Philadelphia Co | 0.18
Pennsylvania | Washington Co | < 0.05
Pennsylvania | Westmoreland Co | < 0.05
Pennsylvania | York Co | 0.14
Tennessee | Hamilton Co | < 0.05
Tennessee | Knox Co | < 0.05
West Virginia | Berkeley Co | 0.05
West Virginia | Brooke Co | < 0.05
West Virginia | Cabell Co | < 0.05
West Virginia | Hancock Co | < 0.05
West Virginia | Kanawha Co | < 0.05
West Virginia | Marion Co | < 0.05
West Virginia | Marshall Co | < 0.05
West Virginia | Ohio Co | < 0.05
West Virginia | Wood Co | < 0.05

We may place additional documents in the docket, and if we do so, we will announce their availability by posting a notice on the CAIR Web site: http://www.epa.gov/cleanairinterstaterule.

B. Reopening of Comment Period For the May 12, 2005 Proposed Rule

The EPA has received a request to reopen the comment period for the May 12 proposal to be co-extensive with the comment period to this NODA. The EPA believes this request is reasonable and accordingly is reopening the period for comment until July 19, 2005.

Dated: June 21, 2005.
Mary E. Henigin,
Acting Director, Office of Air Quality Planning and Standards.

[FR Doc. 05-12706 Filed 6-27-05; 8:45 am]

BILLING CODE 6560-50-P